DEPARTMENT OF HOMELAND SECURITY

Federal Emergency Management Agency

[Docket ID FEMA-2022-0046; OMB No. 1660-0143]

Agency Information Collection Activities: Submission for OMB Review, Comment Request; Federal Emergency Management Agency Individual Assistance Customer Satisfaction Surveys

AGENCY: Federal Emergency Management Agency, Department of Homeland Security.

ACTION: 30-Day notice of revision and request for comments.

SUMMARY: The Federal Emergency Management Agency (FEMA) will submit the information collection abstracted below to the Office of Management and Budget for review and clearance in accordance with the requirements of the Paperwork Reduction Act of 1995. The submission seeks comments concerning the collection of Individual Assistance customer satisfaction survey responses and information for assessment and improvement of the delivery of disaster assistance to individuals and households.

DATES: Comments must be submitted on or before March 24, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection should be made to Director, Information Management Division, 500 C Street SW, Washington, DC 20472; email address: FEMA-Information-Collections-Management@fema.dhs.gov; or Jason Salazar, Program Analyst, Recovery Directorate, FEMA at Jason.Salazar@FEMA.dhs.gov or (940) 268-9245.

SUPPLEMENTARY INFORMATION: This collection is in accordance with E.O. 12862, Setting Customer Service Standards (58 FR 48257, Sept. 11, 1993) and E.O. 13571, Streamlining Service Delivery and Improving Customer Service (76 FR 24339, May 2, 2011) requiring all Federal Agencies to survey customers to determine the kind and quality of services they want and their level of satisfaction with existing services. The Government Performance and Results Act (GPRA) of 1993 (Pub. L. 103-62, 107 Stat. 285) requires agencies to set missions and goals and measure performance against them and the GPRA Modernization Act of 2010 (Pub. L. 111-352, 31 U.S.C § 1116) requires quarterly performance assessments of government programs for the purposes of assessing agency performance and improvement. FEMA will fulfill these requirements by collecting customer satisfaction program information through surveys of the Recovery Directorate's external customers.

This is a request to reduce burden hours in order to comply with the Department of Homeland Security's Paperwork Reduction Act Burden Reduction Initiative. Burden has been reduced in the following ways:

1. Corrected inaccurate burden per response for electronic survey forms. Original estimates were prior to implementation of electronic surveys. Completion times are faster than original estimates.

2. A higher percentage of respondents prefer email surveys in recent years, which are faster to complete than phone surveys.

3. The burden hours allocated to qualitative research have been reduced based on recent utilization.

No changes have been made to the currently approved survey forms. This collection was previously approved in July 2021.

This proposed information collection previously published in the Federal Register on December 2, 2022, at 87 FR 74161 with a 60-day public comment period. No comments were received. The purpose of this notice is to notify the public that FEMA will submit the information collection abstracted below to the Office of Management and Budget for review and clearance.

Collection of Information

Title: Federal Emergency Management Agency Individual Assistance Customer Satisfaction.

Type of Information Collection: Extension, with change, of a currently approved information collection.

OMB Number: 1660-0143.

FEMA Forms: FEMA Form FF-104-FY-21-159 (formerly 519-0-36), Initial Survey—Phone; FEMA Form FF-104-FY-21-160 (formerly 519-0-37), Initial Survey—Electronic; FEMA Form FF-104-FY-21-161 (formerly 519-0-38), Contact Survey—Phone; FEMA Form FF-104-FY-21-162 (formerly 519-0-39), Contact Survey—Electronic; FEMA Form FF-104-FY-21-163 (formerly 519-0-40), Assessment Survey—Phone; FEMA Form FF-104-FY-21-164 (formerly 519-0-41), Assessment Survey—Electronic; Focus Groups; One-on-One Interviews.

Abstract: Federal Agencies are required to survey their customers to determine the kind and quality of services customers want and their level of satisfaction with those services. Analysis from the survey is used to measure whether FEMA is meeting its mission of being accessible, timely, and effective when it comes to meeting the needs of disaster survivors.

Affected Public: Individuals or households.

Estimated Number of Respondents: 38,200.

Estimated Number of Responses: 38,200.

Estimated Total Annual Burden Hours: 5,893.

Estimated Total Annual Respondent Cost: $239,314.

Estimated Respondents' Operation and Maintenance Costs: $0.

Estimated Respondents' Capital and Start-Up Costs: $18,750.

Estimated Total Annual Cost to the Federal Government: $2,091,623.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2023-03618 Filed 2-21-23; 8:45 am]

BILLING CODE 9111-24-P